ENVIRONMENTAL PROTECTION AGENCY

40 CFR Parts 174 and 180

[EPA-HQ-OPP-2022-0161; FRL-9410-02-OCSPP]

Receipt of Pesticide Petitions Filed for Residues of Pesticide Chemicals in or on Various Commodities May 2022

AGENCY: Environmental Protection Agency (EPA).

ACTION: Notices of filing of petitions and request for comment.

SUMMARY: This document announces the Agency's receipt of initial filings of pesticide petitions requesting the establishment or modification of regulations for residues of pesticide chemicals in or on various commodities.

DATES: Comments must be received on or before July 22, 2022.

ADDRESSES: Submit your comments, identified by docket identification (ID) number EPA-HQ-OPP-2022-0161, through the Federal eRulemaking Portal at https://www.regulations.gov. Follow the online instructions for submitting comments. Do not submit electronically any information you consider to be Confidential Business Information (CBI) or other information whose disclosure is restricted by statute. For the latest information on EPA/DC docket access, services and submitting comments, visit https://www.epa.gov/dockets.

FOR FURTHER INFORMATION CONTACT: Marietta Echeverria, Registration Division (RD) (7505P), main telephone number: (703) 305-7090, email address: RDFRNotices@epa.gov. The mailing address for each contact person is Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain data or information prescribed in FFDCA section 408(d)(2), 21 U.S.C. 346a(d)(2); however, EPA has not fully evaluated the sufficiency of the submitted data at this time or whether the data supports granting of the pesticide petitions. After considering the public comments, EPA intends to evaluate whether and what action may be warranted. Additional data may be needed before EPA can make a final determination on these pesticide petitions.

Pursuant to 40 CFR 180.7(f), summaries of the petitions that are the subject of this document, prepared by the petitioners, are included in dockets EPA has created for these rulemakings. The dockets for these petitions are available at https://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

A. Amended Tolerance Exemptions for Inerts (Except PIPS)

PP IN-11643. (EPA-HQ-OPP-2022-0363). Technology Services Group Inc. (1150 18th Street NW, Suite 1000, Washington, DC 20036) on behalf of Organisan Corporation (P.O. Box 2085, Carrollton, Georgia 30112) requests to amend an exemption from the requirement of a tolerance for residues of nitric acid (CAS Reg. No. 7697-37-2) when used as a pesticide inert ingredient (acidifier) in pesticide formulations under 40 CFR 180.910 (limited to no more than 10% by weight in pesticide formulations). The petitioner believes no analytical method is needed because it is not required for an exemption from the requirement of a tolerance. Contact: RD.

B. Amended Tolerances for Non-Inerts

PP 2F8996. (EPA-HQ-OPP-2021-0787). SePRO Corporation, 11550 North Meridian Street, Suite 600, Carmel, IN 46032, requests to amend the tolerances in 40 CFR 180.420(b) by removing the existing time-limited tolerances for residues of the herbicide fluridone, including its metabolites and degrades, in or on the specified agricultural commodities of peanut and peanut, hay at 0.1 parts per million (ppm). The enzyme-linked immunosorbant assay (ELISA), high performance liquid chromatography with ultraviolet detection (HLPC/UV), liquid chromatography with tandem mass spectroscopy (LC/MS/MS) and QuEChERS are used to measure and evaluate the chemical residues. Contact: RD.

C. New Tolerance Exemptions for Inerts (Except PIPS)

1. PP IN-11599. (EPA-HQ-OPP-2021-0645). This notice of filing corrects the names of Arbuscular mychorrizae species in the previous notice of filing published in the Federal Register on March 22, 2022. Valent BioSciences LLC (1910 Innovation Way, Suite 100, Libertyville, Il. 60048) requests to establish an exemption from the requirement of a tolerance for residues of arbuscular mycorrhizae (funneliformis mosseae, rhizophagus irregularis, claroideoglomus etunicatum, rhizophagus clarus, claroideoglomus luteum, claroideoglomus claroideum, septoglomus desertícola, gigaspora margarita, paraglomus brasilianum) for use as an inert ingredient (biostimulant) in pesticide formulations applied to growing crops pre-harvest under 40 CFR 180.920. The petitioner believes no analytical method is needed because it is not required for an exemption from the requirement of a tolerance. Contact: RD.

2. PP IN-11613. (EPA-HQ-OPP-2021-0612). Spring Regulatory Sciences (SRS) on behalf of Lamberti-USA, Inc. (Lamberti), 161 Washington Street, Conshohocken, PA 19428, requests to establish an exemption from the requirement of a tolerance for residues of D-Glucopyranose, oligomeric, maleates, C8-16-branched and linear alkyl glycosides, sulfonated, potassium salts (CAS Reg. Nos. 2585031-35-0, 2587364-77-8, and 1228577-37-4) when used as inert ingredients in pesticide formulations applied under 40 CFR 180.910. The petitioner believes no analytical method is needed because it is not required for an exemption from the requirement of a tolerance. Contact: RD

D. New Tolerances for Non-Inerts

1. PP 1F8922. (EPA-HQ-OPP-2021-0433). Valent U.S.A. LLC, 4600 Norris Canyon Road, San Ramon, CA 94583, requests to establish a tolerance in 40 CFR part 180 for residues of the fungicide, inpyrfluxam in or on cotton, undelinted seed at 0.01 ppm, cotton, gin byproducts (gin trash) at 0.02 ppm. The analytical method RM-50C-1 LC/MS/MS and external standardization) is used to measure and evaluate the chemical inpyrfluxam. Contact: RD.

2. PP 1F8924. (EPA-HQ-OPP-2021-0433). Valent U.S.A. LLC, 4600 Norris Canyon Road, San Ramon, CA 94583, requests to establish a tolerance in 40 CFR part 180 for residues of the fungicide, inpyrfluxam in or on wheat, forage at 0.01 ppm, wheat, grain at 0.01 ppm, wheat, hay at 1.5 ppm, and wheat, straw at 0.3 ppm. The analytical method RM-50C-1 LC/MS/MS and external standardization) is used to measure and evaluate the chemical inpyrfluxam. Contact: RD.

3. PP 1F8942. (EPA-HQ-OPP-2021-0833). Valent U.S.A. LLC, 4600 Norris Canyon Road, San Ramon, CA 94583, requests to establish a tolerance in 40 CFR part 180 for residues of the fungicide, inpyrfluxam in or on rapeseed, seed (crop subgroup 20A) at 0.01 ppm. The analytical method RM-50C-1 LC/MS/MS and external standardization) is used to measure and evaluate the chemical inpyrfluxam. Contact: RD.

4. PP 1F8979. (EPA-HQ-OPP-2022-0452). Gowan Company, LLC., 370 South Main Street, Yuma, AZ 85364, requests to establish a tolerance in 40 CFR part 180 for residues of the miticide Acynonapyr, 3-endo-[2-propoxy-4-(trifluoromethyl)phenoxy]-9-[5-(trifluoromethyl)-2-pyridyloxy]-9-azabicyclo[3.3.1]nonane) and its metabolites AP, 3-endo-[2-propoxy-4-(trifluoromethyl)phenoxy]-9-azabicyclo[3.3.1]nonane, and AY, 5-(trifluoromethyl)-2-pyridinol in or on almond at 0.03 ppm; almond, hulls at 4.0 ppm; crop group 10, citrus fruits at 0.3 ppm; citrus, oil at 15.0 ppm; orange, dried pulp at 0.7 ppm; grape at 0.6 ppm; raisins at 3.0 ppm; hops at 50.0 ppm; crop group 11, pome fruits at 0.2 ppm; and apple, wet pomace at 0.4 ppm. LC/MS/MS is used to measure and evaluate the chemical acynonapyr and its metabolites (AP, AP-2, AY, AY-3, and AY-1-Glc). Contact: RD.

5. PP 2F8996. (EPA-HQ-OPP-2021-0787). SePRO Corporation, 11550 North Meridian Street, Suite 600, Carmel, IN 46032, requests to establish tolerances in 40 CFR part 180.420(a)(2) for residues of the herbicide fluridone, 1-methyl-3-phenyl-5-[3-(trifluoromethyl)phenyl]-4(1H)-pyridinone, including its metabolites and degradates, in or on the raw agricultural commodities of peanut at 0.1 ppm and peanut, hay at 0.15 ppm. ELISA, HLPC/UV, LC/MS/MS, and QuEChERS are used to measure and evaluate the chemical residues. Contact: RD.

(Authority: 21 U.S.C. 346a)

Dated: June 10, 2022.
Delores Barber,
Director, Information Technology and Resources Management Division, Office of Program Support.

[FR Doc. 2022-13291 Filed 6-21-22; 8:45 am]

BILLING CODE 6560-50-P